DEPARTMENT OF TRANSPORTATION

Federal Railroad Administration

Environmental Impact Statement for the Southeast High Speed Rail Project From Washington, DC to Richmond, VA

AGENCY: Federal Railroad Administration (FRA), Department of Transportation (DOT).

ACTION: Notice of intent to prepare an Environmental Impact Statement (EIS).

SUMMARY: FRA is issuing this notice to advise the public that the FRA and the Virginia Department of Rail and Public Transportation (DRPT) will be preparing a Tier II Environmental Impact Statement (EIS) for a 123-mile portion of the Southeast High Speed Rail (SEHSR) Corridor from Washington, DC to Richmond, Virginia. The EIS will evaluate environmental and related impacts of upgrading the rail system and associated infrastructure between the Long Bridge over the Potomac River in Arlington, Virginia and Centralia, Virginia, to implement higher speed passenger rail service, increase rail capacity, and improve passenger train reliability. FRA is issuing this notice to solicit public and agency input into the development of the scope of the EIS and to advise the public that outreach activities conducted by FRA and DRPT will be considered in the preparation of the EIS. To ensure all significant issues are identified and considered, the public is invited to comment on the scope of the EIS, including the purpose and need, alternatives to be considered, impacts to be evaluated, and methodologies to be used in the evaluation.

DATES: The public, governmental agencies, and all other interested parties are invited to comment on the scope of the EIS. All such comments should be provided to DRPT, in writing, within thirty (30) days of the publication of this notice, at the address listed below. Comments may also be provided in writing at the scoping meetings for the Project. Scoping meeting dates, times and locations, in addition to Project information can be found online on the FRA Web site at www.fra.dot.gov and on the Project Web site at www.DC2RVArail.com. An agency scoping meeting will take place on November 3, 2014. Four public scoping meetings will also be held in November 2014. See the SUPPLEMENTARY INFORMATION section for the public scoping meeting dates.

ADDRESSES: Written comments on the scope of the EIS may be mailed or emailed within thirty (30) days of the publication of this notice to Ms. Emily Stock, DRPT Project Manager, Virginia Department of Rail and Public Transportation (DRPT), 600 East Main Street, Suite 2102, Richmond, VA 23219, Emily.Stock@drpt.virginia.gov. Additionally, see the SUPPLEMENTARY INFORMATION section for the public scoping meeting locations.

FOR FURTHER INFORMATION CONTACT: Mr. John Winkle, Transportation Industry Analyst, Office of Railroad Policy and Development, Federal Railroad Administration, 1200 New Jersey Avenue SE., MS-20, Room W38-311, Washington, DC 20590, John.Winkle@dot.gov, or Ms. Emily Stock, DRPT Project Manager, Virginia Department of Rail and Public Transportation (DRPT), 600 East Main Street, Suite 2102, Richmond, VA 23219, Emily.Stock@drpt.virginia.gov. Information and documents regarding the EIS process will also be made available through the FRA Web site at www.fra.dot.gov and on the Project Web site at www.DC2RVArail.com.

SUPPLEMENTARY INFORMATION: FRA, in cooperation with the Virginia Department of Rail and Public Transportation (DRPT), is beginning a Tier II Environmental Impact Statement (EIS) for the 123-mile portion of the SEHSR Corridor from Washington, DC to Richmond, VA. The environmental study area begins at the southern terminus of the Long Bridge over the Potomac River in Arlington, Virginia and continues south to Centralia, Virginia at the CSXT A-Line/CSXT S-Line junction. This study will evaluate alternatives and environmental impacts within the preferred corridor described in the Tier I Record of Decision for the SEHSR Corridor from Washington, DC to Charlotte, North Carolina. The Tier II EIS will be prepared in accordance with the National Environmental Policy Act of 1969 (NEPA) and will also address compliance under Section 106 of the National Historic Preservation Act, Section 4(f) of the U.S. Department of Transportation Act of 1966, and Section 6(f) of the Land and Water Conservation Fund Act.

The Southeast High Speed Rail Corridor, one of eleven Federal high speed passenger rail corridors, was designated by the U.S. Department of Transportation (DOT) in 1992. The corridor was designated as running from Washington, DC through Richmond, VA and Raleigh, NC to Charlotte, NC, with maximum speeds of 110 mph. It is part of an overall plan to extend service from the existing high speed rail on the Northeast Corridor (Boston to Washington) to points in the Southeast. In 1995, DOT extended the SEHSR corridor to Hampton Roads, VA. In 1998, DOT created two more extensions: (1) From Charlotte through Spartanburg and Greenville, SC to Atlanta, GA and on through Macon, GA to Jacksonville, FL; and (2) from Raleigh through Columbia, SC and Savannah, GA to Jacksonville, FL and from Atlanta to Birmingham, AL.

A “tiered” approach was adopted for the SEHSR environmental studies because of the length of the corridor. The original SEHSR Tier I EIS and Record of Decision (2002) (available at: http://www.fra.dot.gov/Page/P0427) covered the entire Washington, DC to Charlotte, NC corridor at a program level, establishing the overall project purpose and need and modal alternative along with the preferred corridor. A separate Tier I EIS was completed in 2012 for the Richmond to Hampton Roads extension (available at: http://www.fra.dot.gov/Page/P0481).

Several Tier II environmental documents will examine the various segments of the preferred corridor on a more detailed, local level. A Tier II EIS is currently underway for the Richmond to Raleigh portion of the SEHSR corridor. The Tier II EIS that is the subject of this notice will examine the Washington, DC to Richmond portion of the SEHSR corridor and will include preliminary engineering in addition to the Tier II EIS.

Additionally, this project will include preliminary engineering and environmental analyses for related capacity improvements on the CSXT Peninsula Subdivision in the Richmond area between AM Junction and Beulah to the east, and on the Buckingham Branch Railroad from AM Junction through Doswell, VA, to the north, as well as two localities where specific improvements have not been identified: Elmont to North Doswell (through Ashland, VA) and Fredericksburg to Dahlgren (through Fredericksburg, VA and the Rappahannock River Bridge). These areas will be evaluated for station, track, and safety improvements as well as the feasibility of a third track.

This project will involve further analysis of the alignment of the route selected through the 2002 Tier I EIS and Record of Decision, including the Buckingham Branch Railroad and the CSXT S-Line and A-Line routes from Greendale north of Richmond to Centralia south of Richmond.

This Tier II environmental process has four basic goals: (1) Update and confirm the purpose and need as established in the Tier I EIS for the Washington, DC to Richmond, VA portion of the SEHSR corridor; (2) Develop site-specific rail alternatives for placement of a third track and other improvements; (3) Conduct a detailed evaluation of environmental impacts for the alternatives; and (4) Select a preferred alternative. The project also will include preliminary engineering for projects from Arlington to Centralia that are required to deliver SEHSR service at a maximum authorized speed (MAS) of 90 miles per hour (mph) along the corridor, as well as updating the existing service development plan (SDP) for operations along the corridor.

Environmental Review Process

The Tier II EIS will be developed in accordance with the Council on Environmental Quality (CEQ) regulations (40 CFR part 1500 et seq.) implementing the National Environmental Policy Act of 1969 (42 U.S.C. 321 et seq.) (NEPA) and FRA's Procedures for Considering Environmental Impacts (64 FR 28545, May 26, 1999). In addition to NEPA, the EIS will address other applicable statutes, regulations and executive orders, including the 1980 Clean Air Act Amendments, Section 404 of the Clean Water Act, the National Historic Preservation Act, Section 4(f) of the Department of Transportation Act, the Endangered Species Act, and Executive Order 12898 on Environmental Justice.

The purpose of the Tier II EIS will be to provide the FRA, reviewing and cooperating agencies, and the public with information to assess alternatives that will meet the Project's purpose and need; to evaluate the potential environmental impacts; and to identify potential avoidance/mitigation measures, associated with the proposed Project alternatives.

The Project may affect historic properties and may be subject to the requirements of Section 106 of the National Historic Preservation Act of 1966 (NHPA) (16 U.S.C. 470(f)). In accordance with regulations issued by the Advisory Council on Historic Preservation (36 CFR part 800), FRA intends to coordinate compliance with Section 106 of the NHPA with the preparation of the EIS, beginning with the identification of consulting parties through the scoping process, in a manner consistent with the standards set out in 36 CFR 800.8.

Scoping and Public Involvement

FRA encourages broad participation in the Tier II EIS process during scoping and review of the resulting environmental documents. Comments are invited from all interested agencies and the public to ensure the full range of issues related to the Project are addressed, reasonable alternatives are considered, and significant issues are identified. In particular, FRA is interested in identifying areas of environmental concern where there might be a potential for significant impacts. Public agencies with jurisdiction are requested to advise FRA and DRPT of the applicable permit and environmental review requirements of each agency, and the scope and content of the environmental information that is germane to the agency's statutory responsibilities in connection with the proposed Project. Letters describing the proposed action and soliciting comments will be sent to appropriate Federal, State, and local agencies in Virginia. Public agencies are requested to advise FRA if they anticipate taking a major action in connection with the proposed Project and if they wish to cooperate in the preparation of the EIS.

Public scoping opportunities and meetings will be scheduled as described below and are an important component of the scoping process for Federal environmental review. FRA is seeking participation and input of interested Federal, State, and local agencies, Native American groups, and other concerned private organizations and individuals on the scope of the EIS. A continual public involvement/information program will support the process. The program will involve newsletters, a project hotline, informational workshops, small group meetings, social media, and other methods to solicit and incorporate public input throughout the EIS process. Comments and questions concerning the proposed action should be directed to DRPT or to FRA at the addresses provided above. Additional information can be obtained by visiting the project Web site at www.DC2RVArail.com or calling the toll-free project number 1-888-832-0900.

Public Scoping Meeting Dates and Locations

The public scoping meetings will be advertised locally and are scheduled for the following locations on the dates indicated below from 5:00-7:30 p.m.

November 5, 5:00-7:30 p.m., Hanover Arts and Activities Center, 500 South Center Street, Ashland, VA

November 6, 5:00-7:30 p.m., Department of Motor Vehicles, 2300 W. Broad Street, Richmond, VA

November 12, 5:00-7:30 p.m., National Museum of the Marine Corps-Quantico, 18900 Jefferson Davis Highway, Quantico, VA

November 13, 5:00-7:30, Westin Crystal City, 1800 Jefferson Davis Highway, Arlington, VA

In addition, an online meeting will also be available from October 27, 2014 through December 5, 2014. The public can review materials at the meetings or online and provide comments by December 5, 2014.

Authority: 42 U.S.C. 4321 et seq.

Issued in Washington, DC, on October 17, 2014.
Corey W. Hill,
Director, Office of Program Delivery.

[FR Doc. 2014-25219 Filed 10-22-14; 8:45 am]

BILLING CODE 4910-06-P